DEPARTMENT OF THE TREASURY

Submission for OMB Review; Comment Request

September 8, 2006.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 16, 2006 to be assured of consideration.

Financial Crimes Enforcement Network (FinCEN)

OMB Number: 1506-0018.

Type of Review: Revision.

Title: Report of Cash Payment Over $10,000 Received in a Trade or Business.

Form: FinCEN 8300.

Description: Anyone in a trade or business who, in the course of such trade or business, receives more than $10,000 in cash or foreign currency in one or more related transactions must report it to the IRS and provide a statement to the payor. Any transaction which must be reported under Title 31 on FinCEN Form 104 is exempted from reporting the same transaction on Form 8300. The USA Patriot Act of 2001 (Pub. L. 107-56) authorized the Financial Crimes Enforcement Network to collect the information reported on Form 8300.

Respondents: Private.

Estimated Total Reporting Burden: 70,200 hours.

Clearance Officer: Russell Stephenson, (202) 354-6012, Department of the Treasury, Financial Crimes Enforcement Network, P.O. Box 39, Vienna, VA 22183.

OMB Reviewer: Alexander T. Hunt, (202) 395-7316, Office of Management and Budget, Room 10235, New Executive Office Building, Washington, DC 20503.

Michael A. Robinson,
Treasury PRA Clearance Officer.

[FR Doc. E6-15223 Filed 9-13-06; 8:45 am]

BILLING CODE 4810-02-P